DEPARTMENT OF COMMERCE

National Oceanic and Atmospheric Administration

[RTID 0648-XD751]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a public meeting.

DATES: The meeting will be held on Tuesday, March 19, 2024, from 10 a.m. to 5 p.m. See SUPPLEMENTARY INFORMATION for agenda details.

ADDRESSES: The meeting will take place over webinar using the Webex platform with a telephone-only connection option. Details on how to connect to the webinar by computer and by telephone will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will review and provide feedback on the most recent Mid-Atlantic State of the Ecosystem report, the Ecosystem Approach to Fisheries Management risk assessment, and the work plan/products of the SSC's Ecosystem Work Group. The SSC will receive an overview of the Northeast Fisheries Science Center Cooperative Research Program activities. In addition, the SSC will discuss the activities and future products of the Overfishing Limit (OFL) Coefficient of Variation (CV) sub-group. Under “Other Business”, the SSC will discuss a number of topics including: the Scientific Coordination Sub-Committee 8th National Workshop, outcomes from a recent workshop on defining biological reference points, the 2024-2025 stock assessment schedule, and 2024 SSC meeting plans. The SSC may take up any other business as necessary.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: February 27, 2024.
Rey Israel Marquez,
Acting Deputy Director, Office of Sustainable Fisheries, National Marine Fisheries Service.

[FR Doc. 2024-04348 Filed 2-29-24; 8:45 am]

BILLING CODE 3510-22-P